DEPARTMENT OF ENERGY

Federal Energy Regulatory Commission

Notice of Availability of Draft License Application and Preliminary Draft Environmental Assessment

April 12, 2000.

Take notice that the following hydroelectric application has been filed with the Federal Energy Regulatory Commission and is available for public inspection:

a. Type of Application: Major New License.

b. Project No.: P-271.

c. Date filed: April 4, 2000.

d. Applicant: Entergy Arkansas, Inc.

e. Name of Project: Carpenter-Remmel Hydroelectric Project.

f. Location: Located on the Ouachita River in Garland and Hot Spring Counties, Arkansas, and immediately downstream from the U.S. Army Corps of Engineers Blakely Mountain Dam. The Carpenter-Remmel Hydroelectric Project includes the Carpenter development at river mile 461 and the Remmel development at river mile 450.

g. Filed Pursuant to: Federal Power Act 16 U.S.A. §§ 791(a)-825(r).

h. Applicant Contact: Mr. W. Henry Jones, Entergy Hydro Operations, P.O. Box 218, Jones Mills, AR 72105, (501) 844-2148 or email: wjones7@Entergy.com.

Mr. Gary Liimatainen, Kleinschmidt Associates, 75 Main Street, P.O. Box 576, Pittsfield, ME 04967, (207) 487-3328 or e-mail: Gary@Kassociates.com.

i. FERC Contact: Ed Lee at (202) 219-2809 or E-mail address at Ed.Lee.ferc.fed.us.

j. Status of Project: With this notice the Commission is soliciting (1) Preliminary terms, conditions, and recommendations on the Preliminary Draft Environmental Assessment (DEA), and (2) comments on the Draft License Application. Entergy Arkansas, Inc. is not claiming preference under Section 7(a) of the Federal Power Act § 16.

k. Comment Date: July 17, 2000.

All comments on the Preliminary DEA and Draft License Application should be sent to the addresses noted above in Item (h), with one copy filed with FERC at the following address: David P. Boergers, Secretary, Federal Energy Regulatory Commission, 888 First Street, NE, Washington, DC 20426.

All comments must include the project name and number and bear the heading “Preliminary Comments”, “Preliminary Recommendations”, “Preliminary Terms and Conditions”, or “Preliminary Prescriptions”.

l. Available Locations of Application: A copy of the application is available for inspection and reproduction at the Commission's Public Reference and Files Maintenance Branch, located at 888 First Street, N.W., Room 2-A, Washington, D.C. 20426, or by calling (202) 219-1271. A copy of the application may also be viewed or printed by accessing the Commission's website on the Internet at http://www.ferc.fed.us/online/rims.htm or call (202) 208-2222 for assistance.

Entergy Arkansas, Inc. has mailed a copy of the Preliminary DEA and Draft License Application to interested entities and parties. Copies of these documents are available for review at Entergy's Public Information File, the Garland and Hot Spring County Public Libraries in Arkansas, or by calling (501) 844-2148 or by e-mailing wjones7@Entergy.com.

m. With this notice, we are initiating consultation with the Arkansas State Historic Preservation Officer, as required by § 106, National Historic Preservation Act, and the regulations of the Advisory Council on Historic Preservation, 36 CFR 800.4.

Linwood A. Watson, Jr.,
Acting Secretary.

[FR Doc. 00-9631 Filed 4-17-00; 8:45 am]

BILLING CODE 6717-01-M